DEPARTMENT OF THE INTERIOR

Fish and Wildlife Service

Availability of a Safe Harbor Agreement for Forster-Gill, Inc., Blue Lake Properties, Humboldt County, California

AGENCY: Fish and Wildlife Service, Interior.

ACTION: Notice of document availability.

SUMMARY: This notice advises the public that Forster-Gill, Inc., has applied to the Fish and Wildlife Service (we, the Service) for an enhancement of survival permit pursuant to section 10 (a)(1)(A) of the Endangered Species Act of 1973, as amended (Act) for northern spotted owl (Strix occidentalis caurina). The permit application includes a Safe Harbor Agreement between Forster-Gill, Inc., and the Service. The proposed Agreement and permit would become effective upon signature of the Agreement and would remain in effect 80 and 90 years, respectively. We have made a preliminary determination that the proposed Agreement and permit application are eligible for categorical exclusion under the National Environmental Policy Act of 1969 (NEPA). We explain the basis for this determination in an Environmental Action Statement, which is also available for public review.

We announce the opening of a 30-day comment period to receive comments from the public on the Applicant's enhancement of survival permit application, the accompanying proposed Agreement, and Environmental Action Statement. For further information and instruction on the reviewing and comment process, see Public Review and Comment section below.

DATES: Written comments must be received by April 22, 2002.

ADDRESSES: Comments should be addressed to Mr. Bruce Halstead, Project Leader, U.S. Fish and Wildlife Service, 1655 Heindon Road, Arcata, California, 95521; facsimile (707) 822-8411. (See Public Review and Comments section below.)

FOR FURTHER INFORMATION CONTACT: Mr. Ken Hoffman at the above address or telephone (707) 822-7201.

SUPPLEMENTARY INFORMATION:

Background

Under a Safe Harbor Agreement, participating property owners voluntarily undertake management activities on their property to enhance, restore, or maintain habitat benefitting species listed under the Act. Safe Harbor Agreements encourage private and other non-Federal property owners to implement conservation efforts for listed species by assuring property owners they will not be subject to increased property use restrictions if their efforts attract listed species to their property or increase the numbers or distribution of listed species already on their property. Application requirements and issuance criteria for enhancement of survival permits through Safe Harbor Agreements are found in 50 CFR 17.22(c).

We have worked with Forster-Gill, Inc., to develop a Safe Harbor Agreement for the creation and enhancement of habitat for the northern spotted owl on the Forster-Gill, Inc., properties in Blue Lake, California. There are two baseline conditions that will be maintained under this Agreement: (1) Protection of an 11.2-acre no-harvest area that will buffer the most recent active northern spotted owl nest site, but will also be maintained in the absence of a nest site; and (2) maintenance of 216 acres on the property such that the trees will always average 12 to 24 inch diameter at breast height with a canopy closure of 60 to 100 percent. The property is currently at the lower end of the diameter and canopy closure ranges. By the end of the Agreement, the property will be at the upper end of the diameter and canopy closure ranges. Under this Agreement, Forster-Gill, Inc., will: (1) Annually survey and monitor for the species location and reproductive status; (2) protect all active nest sites (locations where nesting behavior is observed during any of the previous 3 years) with a no-harvest area that buffers the nest site by no less than 300 feet and limits timber harvest operations, within 1,000 feet of an active nest site during the breeding season, to the use of existing haul roads; and (3) manage the second growth redwood timber on the property in a manner that maintains suitable northern spotted owl habitat while creating over time the multi-layered canopy structure with an older, larger tree component associated with high quality spotted owl habitat.

We anticipate that this Agreement will provide, maintain, and enhance for the 80-year life of the Agreement over 200 acres of suitable northern spotted owl habitat within a matrix of private timberland.

Consistent with Safe Harbor policy, we propose to issue a permit to Forster-Gill, Inc., authorizing incidental take of northern spotted owls which may move on to the enrolled lands, and their progeny, as a result of lawful activities on the Forster-Gill, Inc., Blue Lake Properties, so long as baseline conditions are maintained and terms of the Agreement are implemented. These activities include unintentional take of northern spotted owls from long-term timber management and related activities including the felling, skidding and transport of timber and other related forest products. As the long-term timber management and related activities proposed under this Agreement will not result in the elimination of any currently suitable spotted owl habitat, it is unlikely that take would occur in this manner. However, in the event that an owl pair moves on to, or within 300 feet of the enrolled property, the application of uneven aged timber management using single tree selection silviculture between 300 and 500 feet from an active nest site, may result in incidental take through degradation of the habitat, e.g. alteration of the microclimate within the proximity of the nest site. The development and maintenance of high quality habitat in a matrix of private timberland subject to even aged management regimes will provide a relatively stable habitat condition that we believe will provide high productivity for multiple generations of spotted owls. Therefore, the cumulative impact of the Agreement and the activities it covers, which are facilitated by the allowable incidental take, is expected to provide a net benefit to the northern spotted owl.

We provide this notice pursuant to section 10(c) of the Act and pursuant to implementing regulations for NEPA (40 CFR 1506.6). We will evaluate the permit application, associated documents, and comments submitted therein to determine whether the permit application meets the requirements of section 10(a) of the Act and NEPA regulations. If, upon completion of the 30-day comment period, we determine that the requirements are met, we will sign the Agreement and issue an enhancement of survival permit under section 10(a)(1)(A) of the Act to Forster-Gill, Inc., for take of northern spotted owls incidental to otherwise lawful activities in accordance with the terms of the Agreement.

Public Review and Comments

Individuals wishing copies of the permit application, the Environmental Action Statement, or copies of the full text of the Agreement, including a map of the proposed permit area, references, and legal descriptions of the proposed permit area, should contact the office and personnel listed in the ADDRESSES section above.

If you wish to comment on the permit application, Environmental Action Statement, or the Agreement, you may submit your comments to the address listed in the ADDRESSES section of this document. Comments and materiels received, including names and addresses of respondents, will be available for public review, by appointment, during normal business hours at the address in the ADDRESSES section above and will become part of the public record, pursuant to section 10(c) of the Act.

Dated: March 15, 2002.
John Engbring,
Deputy Manager, California/Nevada Operations Office., Fish and Wildlife Service, Region 1, Portland, Oregon.

[FR Doc. 02-6928 Filed 3-21-02; 8:45 am]

BILLING CODE 4310-55-P